DEPARTMENT OF ENERGY

Federal Energy Regulatory Commission

[Docket No. TX07-2-000]

Nevada Power Company; Notice of Filing

October 10, 2007.

Take notice that on September 28, 2007, pursuant to section 211 of the Federal Power Act (FPA), Nevada Power Company (Nevada Power), on behalf of Calpine Corporation, filed an application requesting the Federal Energy Regulatory Commission order Nevada Power to provide transmission services to Calpine Corporation under the terms of a specific 400 MW transmission service agreement. This order is necessary to preserve the tax-exempt status of Nevada Power's local furnishing bonds.

Nevada Power agrees to waive its right to a request for service under section 213(a) of the FPA and to the issuance of a proposed order under section 212(c) of the FPA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC.

There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 29, 2007.

Kimberly D. Bose,
Secretary.

[FR Doc. E7-20393 Filed 10-16-07; 8:45 am]

BILLING CODE 6717-01-P